DEPARTMENT OF COMMERCE

National Oceanic and Atmospheric Administration

Evaluation of State Coastal Management Programs and National Estuarine Research Reserves

AGENCY: Office for Coastal Management (OCM), National Ocean Service (NOS), National Oceanic and Atmospheric Administration (NOAA), Department of Commerce (DOC).

ACTION: Notice.

SUMMARY: The National Oceanic and Atmospheric Administration (NOAA), Office for Coastal Management will hold two separate public meetings to solicit comments on the performance evaluation of the Oregon Coastal Management Program and the Narragansett Bay National Estuarine Research Reserve. Notice is also hereby given of the availability of the final evaluation findings for Maryland, Puerto Rico and Ohio Coastal Management Programs.

DATES: Oregon Coastal Management Program Evaluation: The public meeting will be held on May 24, 2016, and written comments must be received on or before June 10, 2016.

Narragansett Bay National Estuarine Research Reserve Evaluation: The public meeting will be held on June 28, 2016, and written comments must be received on or before July 15, 2016.

For specific dates, times, and locations of the public meetings, see SUPPLEMENTARY INFORMATION.

ADDRESSES: You may submit comments on the program or reserve NOAA intends to evaluate by any of the following methods:

Public Meeting and Oral Comments: Public meetings will be held in Newport, Oregon and Bristol, Rhode Island. For specific locations, see SUPPLEMENTARY INFORMATION.

Written Comments: Please direct written comments to Carrie Hall, Evaluator, Planning and Performance Measurement Program, Office for Coastal Management, NOS/NOAA, 1305 East-West Highway, 11th Floor, N/OCM1, Silver Spring, Maryland 20910, or email comments Carrie.Hall@noaa.gov.

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov. Copies of the final evaluation findings and related material (including past performance reports and notices prepared by NOAA's Office for Coastal Management) may be obtained upon written request by contacting the person identified under FOR FURTHER INFORMATION CONTACT. Copies of the final evaluation findings may also be downloaded or viewed on the Internet at http://coast.noaa.gov/czm/evaluations/evaluation_findings/index.html.

SUPPLEMENTARY INFORMATION: Sections 312 and 315 of the Coastal Zone Management Act (CZMA) require NOAA to conduct periodic evaluations of federally approved state and territorial coastal programs and national estuarine research reserves. The process includes a public meeting, consideration of written public comments and consultations with interested Federal, state, and local agencies and members of the public. During the evaluation, NOAA will consider the extent to which the state has met the national objectives, adhered to the final management plan approved by the Secretary of Commerce, and adhered to the terms of financial assistance under the CZMA. When the evaluation is completed, NOAA's Office for Coastal Management will place a notice in the Federal Register announcing the availability of the Final Evaluation Findings.

Specific information on the periodic evaluation of the state and territorial coastal programs and reserves that are the subject of this notice are detailed below as follows:

Oregon Coastal Management Program Evaluation

You may participate or submit oral comments at the public meeting scheduled as follows:

Date: May 24, 2016.

Time: 5:30 p.m., local time.

Location: Best Western Agate Beach Inn, Cove Room, 3019 North Coast Highway, Newport, Oregon 97365.

Written public comments must be received on or before June 10, 2016.

Narragansett Bay National Estuarine Research Reserve Evaluation

You may participate or submit oral comments at the public meeting scheduled as follows:

Date: June 28, 2016.

Time: 6:00 p.m., local time.

Location: Audubon Society of Rhode Island, Environmental Education Center, 1401 Hope Street, Bristol, Rhode Island 02890.

Written comments must be received on or before July 15, 2016.

Availability of Final Evaluation Findings of Other State and Territorial Coastal Programs

The NOAA Office for Coastal Management has completed review of the Coastal Zone Management Program evaluations for the states of Maryland and Ohio, and the Commonwealth of Puerto Rico. Both states and territory were found to be implementing and enforcing their federally approved coastal management programs, addressing the national coastal management objectives identified in CZMA Section 303(2)(A)-(K), and adhering to the programmatic terms of their financial assistance awards. Copies of these final evaluation findings may be downloaded at http://coast.noaa.gov/czm/evaluations/evaluation_findings/index.html or by submitting a written request to the person identified under FOR FURTHER INFORMATION CONTACT.

John King,
Deputy Director, Office for Coastal Management, National Ocean Service, National Oceanic and Atmospheric Administration.

Federal Domestic Assistance Catalog 11.419 Coastal Zone Management Program Administration.

[FR Doc. 2016-08207 Filed 4-8-16; 8:45 am]

BILLING CODE 3510-08-P